DEPARTMENT OF DEFENSE

Department of the Army

Certification That Transformation of the Army to a Brigade-Oriented Structure Is Completed and Statutory Requirement To Submit an Annual Report Under Subsection c, Section 595 of the Ronald W. Reagan National Defense Authorization Act of 2005 Has Terminated

AGENCY: Department of the Army, DoD.

ACTION: Notice.

SUMMARY: In accordance with subsection c, Section 595 of the Ronald W. Reagan National Defense Authorization Act of 2005, the Secretary of the Army has certified that the internal transformation of the Army from a division-oriented force to a brigade-oriented force has been completed. Further, in accordance with subsection c, Section 595 of the Ronald W. Reagan National Defense Authorization Act of 2005, the statutory requirement to submit an annual report is therefore terminated.

DATES: Certification and termination of statutory requirement for an annual report effective date is March 31, 2014.

FOR FURTHER INFORMATION CONTACT: HQDA, G-3/5/7, DAMO-ZT, Mr. John S. Chappell, (703) 614-8283.

SUPPLEMENTARY INFORMATION: None.

Gary H. Cheek,
Major General, U.S. Army, Assistant Deputy Chief of Staff, G-3/5/7.

[FR Doc. 2014-11853 Filed 5-21-14; 8:45 am]

BILLING CODE 3710-08-P